DEPARTMENT OF COMMERCE

International Trade Administration

[A-570-803]

Heavy Forged Hand Tools, Finished or Unfinished, With or Without Handles, From the People's Republic of China: Extension of Time Limit for the Preliminary Results of the Antidumping Duty Administrative Review

AGENCY: Import Administration, International Trade Administration, Department of Commerce.

SUMMARY: The Department of Commerce (“the Department”) is extending the time limit for the preliminary results of the review of Heavy Forged Hand Tools, Finished or Unfinished, With or Without Handles (“HFHTs”) from the People's Republic of China (“PRC”). This review covers the period February 1, 2006, through January 31, 2007.

DATES: Effective Date: November 9, 2007.

FOR FURTHER INFORMATION CONTACT: Javier Barrientos, AD/CVD Operations, Office 9, Import Administration, International Trade Administration, U.S. Department of Commerce, 14th Street and Constitution Avenue, NW., Washington DC 20230; telephone: (202) 482-2243.

Statutory Time Limits

Section 751(a)(3)(A) of the Tariff Act of 1930, as amended (“the Act”), requires the Department of Commerce (“the Department”) to make a preliminary determination within 245 days after the last day of the anniversary month of an order for which a review is requested and a final determination within 120 days after the date on which the preliminary determination is published. However, if it is not practicable to complete the review within these time periods, section 751(a)(3)(A) of the Act allows the Department to extend the time limit for the preliminary determination to a maximum of 365 days after the last day of the anniversary month.

Background

On March 28, 2007, the Department published a notice of initiation of a review of HFHTs from the PRC covering the period February 1, 2006, through January 31, 2007. See Initiation of Antidumping and Countervailing Duty Administrative Reviews, 72 FR 14516 (March 28, 2007). The preliminary results of this administrative review are currently due no later than October 31, 2007.

Extension of Time Limit of Preliminary Results

The Department determines that completion of the preliminary results of this review within the 245-day period is not practicable because of: (1) The need to analyze and issue supplemental questionnaires regarding Respondent's claim of no shipments, U.S. Customs and Border Protection (“CBP”) data, and Petitioners' submissions related thereto; and, (2) the current case workload and other statutory deadlines. Therefore, the Department is extending the time limit for completion of the preliminary results by 120 days.

Given the number and complexity of issues in this case and the current case workload, and in accordance with section 751(a)(3)(A) of the Act, we are extending the time period for issuing the preliminary results of review by 120 days until February 28, 2008. The final results continue to be due 120 days after the publication of the preliminary results.

We are issuing and publishing this notice in accordance with sections 751(a)(3)(A) and 777(i) of the Act.

Dated: October 26, 2007.
Stephen J. Claeys,
Deputy Assistant Secretary for Import Administration.

[FR Doc. E7-22047 Filed 11-8-07; 8:45 am]

BILLING CODE 3510-DS-P